DEPARTMENT OF STATE

Bureau of Nonproliferation; Determination on Export-Import Bank Support for U.S. Exports to Iraq

[Public Notice 4473]

AGENCY: Bureau of Nonproliferation, Department of State.

ACTION: Notice.

SUMMARY: Pursuant to section 2(b)(4) of the Export-Import Bank Act of 1945, as amended, the President has determined and certified to Congress that it is in the national interest for the Export-Import Bank to guarantee, insure, or extend credit, or participate in the extension of credit in support of United States exports to Iraq.

EFFECTIVE DATE: October 17, 2003.

FOR FURTHER INFORMATION CONTACT: Caroline R. Russell, Office of Regional Affairs, Bureau of Nonproliferation, Department of State (202-647-9786).

SUPPLEMENTARY INFORMATION: In accordance with section 2(b)(4) of the Export-Import Bank Act of 1945, as amended, the Department of State determined that, based on Iraqi activities first discovered in 1991, Iraq has materially violated a safeguards agreement with the International Atomic Energy Agency (IAEA). The violations occurred under the government of Saddam Hussein, which is no longer in power. As a result of this determination, under section 2(b)(4) of the Export-Import Bank Act of 1945, the Board of Directors of the Export-Import Bank is prohibited from giving “approval to guarantee, insure, or extend credit, or participate in the extension of credit in support of United States exports” to Iraq.

The President has determined and certified to Congress pursuant to section 2(b)(4) that “it is in the national interest” to waive the restrictions in the law and allow the Export-Import Bank to support United States exports to Iraq. This Presidential determination will enable the Export-Import Bank to approve support for United States exports to Iraq beginning October 17, 2003 (45 days after the date of the President's determination and certification).

Dated: September 3, 2003.
Andrew K. Semmel,
Acting Assistant Secretary of State for Nonproliferation, Department of State.

[FR Doc. 03-22913 Filed 9-8-03; 8:45 am]

BILLING CODE 4710-27-P